DEPARTMENT OF TRANSPORTATION

Office of the Secretary

Notice of Applications for Certificates of Public Convenience and Necessity and Foreign Air Carrier Permits Filed Under Subpart B (formerly Subpart Q) during the Week Ending April 25, 2009.

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2004-19077, DOT-OST-2007-28567 and DOT-OST-2007-22228.

Date Filed: April 20, 2009.

Due Date for Answers, Conforming Applications, or Motion to Modify Scope: May 11, 2009.

Description: Application of Northwest Airlines, Inc. (“Northwest”) requesting a renewal of the exemption and certificate authority set forth in Attachment A, which enable Northwest to offer scheduled foreign air transportation of persons, property and mail between the United States and various foreign points.

Renee V. Wright,
Program Manager, Docket Operations, Federal Register Liaison.

[FR Doc. E9-10474 Filed 5-5-09; 8:45 am]

BILLING CODE 4910-9X-P